DEPARTMENT OF LABOR

Employment and Training Administration

Investigations Regarding Certifications of Eligibility To Apply for Workers Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under title II, chapter 2, of the act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than may 12, 2003.

Interested persons are invited to submit written comments regarding the subject matter of the investigations to the Director, Division of Trade Adjustment Assistance, at the address shown below, not later than May 12, 2003.

The petitions filed in this case are available for inspection at the Office of the Director, Division of Trade Adjustment Assistance, Employment and Training Administration, U.S. Department of Labor, Room C-5311, 200 Constitution Avenue, NW., Washington, DC 20210.

Signed at Washington, DC, this 22nd day of April, 2003.
Timothy F. Sullivan,
Director, Division of Trade Adjustment Assistance.

Appendix
[Petitions instituted between 04/01/2003 and 04/11/2003]
TA-W | Subject firm (petitioners) | Location | Date of institution | Date of petition
42,361 | P.C.Cutting and Apparel (Wkrs) | Hialeah, FL | 04/10/2003 | 10/05/2002
51,375 | U.S. Repeating Arms Company (Comp) | New Haven, CT | 04/01/2003 | 03/31/2003
51,376 | Ravenna Machine Company (Comp) | Defiance, OH | 04/01/2003 | 03/31/2003
51,377 | Weyerhaeuser (Comp) | Millport, AL | 04/01/2003 | 03/21/2003
51,378 | American Quality Ceramics (Comp) | Bangs, TX | 04/01/2003 | 03/31/2003
51,379 | Printed Fabrics Corp. (Wkrs) | Carrollton, GA | 04/01/2003 | 03/26/2003
51,380 | Colorado Medtech (Wkrs) | Boulder, CO | 04/01/2003 | 03/27/2003
51,381 | Hasler, Inc. (Wkrs) | Shelton, CT | 04/01/2003 | 03/31/2003
51,382 | OEM Worldwide (Comp) | Spearfish, SD | 04/01/2003 | 03/28/2003
51,383 | American Video Glass Company (Wkrs) | Mt. Pleasant, PA | 04/01/2003 | 03/25/2003
51,384 | Honeywell Sensor Systems (Comp) | Pawtucket, RI | 04/01/2003 | 03/31/2003
51,385 | Actiontec Electronics (Comp) | Colorado Springs, CO | 04/02/2003 | 04/01/2003
51,386 | Avaya, Inc. (IBEW) | Omaha, NE | 04/02/2003 | 04/01/2003
51,387 | Allvac/Oremet and Allegheny Tech Co. (USWA) | Albany, OR | 04/02/2003 | 03/27/2003
51,388 | Filtronic Solid State (Wkrs) | Santa Clara, CA | 04/02/2003 | 04/01/2003
51,389 | State of Alaska Commercial Fisheries (Comp) | Naknek, AK | 04/02/2003 | 04/01/2003
51,390 | State of Alaska Commercial Fisheries (Comp) | Naknek, AK | 04/02/2003 | 03/28/2003
51,391 | State of Alaska Commercial Fisheries (Comp) | King Salmon, AK | 04/02/2003 | 03/28/2003
51,392 | State of Alaska Commercial Fisheries (Comp) | Naknek, AK | 04/02/2003 | 03/28/2003
51,393 | Stillwater, Inc. (Comp) | Augusta Springs, VA | 04/03/2003 | 03/18/2003
51,394 | B-W Specialty Mfg. (Wkrs) | Seattle, WA | 04/03/2003 | 01/20/2003
51,395 | Lexington Home Brands (Comp) | Lexington, NC | 04/03/2003 | 03/31/2003
51,396 | Nabco, Inc. (Comp) | Reed City, MI | 04/03/2003 | 04/02/2003
51,397 | McCrosky Tool Corp. (Comp) | Meadville, PA | 04/03/2003 | 04/03/2003
51,398 | Textron Fastening Systems (Comp) | Rockford, IL | 04/03/2003 | 03/21/2003
51,399 | Axis/Salant Corporation (Wkrs) | Culver City, CA | 04/03/2003 | 03/24/2003
51,400 | Credence Corporations (Wkrs) | Hillsboro, OR | 04/04/2003 | 03/21/2003
51,401 | SV Microwave Components Group (Comp) | Largo, FL | 04/04/2003 | 03/31/2003
51,402 | Geiger Bros, Inc. (Comp) | Lewiston, ME | 04/04/2003 | 03/31/2003
51,403 | Clariant Corporation (WI) | Oak Creek, WI | 04/04/2003 | 04/01/2003
51,404 | TexStyle, Inc. (Wkrs) | Manchester, KY | 04/04/2003 | 03/21/2003
51,405 | Itronix (Comp) | Spokane, WA | 04/04/2003 | 03/03/2003
51,406 | Dana Corporation (Comp) | Whitsett, NC | 04/04/2003 | 03/24/2003
51,407 | MeadWestvaco (GCIU) | Newark, DE | 04/04/2003 | 03/13/2003
51,408 | Motorola (Wkrs) | Arlington Hgts, IL | 04/04/2003 | 04/01/2003
51,409 | Showcase Glass (Comp) | Post Falls, ID | 04/04/2003 | 03/20/2003
51,410 | Daniel Hays Company, Inc. (The) (UNITE) | Johnstown, NY | 04/04/2003 | 03/19/2003
51,411 | Corteco (Comp) | Newport, TN | 04/04/2003 | 01/24/2003
51,412 | Express Personnel Services (Comp) | Portland, ME | 04/04/2003 | 03/31/2003
51,413 | Silvered Electronic Mica Company, Inc. (Comp) | N. Windham, CT | 04/04/2003 | 03/24/2003
51,414 | Windsor Forestry Tools, LLC (Wkrs) | Milan, TN | 04/04/2003 | 03/20/2003
51,415 | Washington Group (Comp) | Manassas, VA | 04/04/2003 | 03/27/2003
51,416 | Weyerhaeuser (Wkrs) | Laredo, TX | 04/04/2003 | 03/18/2003
51,417 | Leading Technologies, Inc. (Wrks) | Leechburg, PA | 04/04/2003 | 03/21/2003
51,418 | Dover Furniture Manufacturing, Inc. (Wkrs) | Arley, AL | 04/04/2003 | 03/28/2003
51,419 | Vaisala, Inc. (Comp) | Plain City, OH | 04/04/2003 | 03/27/2003
51,420 | Drexel Heritage Furniture (Wkrs) | Drexel, NC | 04/04/2003 | 03/31/2003
51,421 | Modern Mold and Tool Magnus Molding (MA) | Pittsfield, MA | 04/04/2003 | 03/19/2003
51,422 | Butler Manufacturing Company (USWA) | Galesburg, IL | 04/04/2003 | 04/03/2003
51,423 | State of Alaska Commercial Fisheries (Comp) | Kodiak, AK | 04/04/2003 | 04/01/2003
51,424 | Fishing Vessel (F/V) Sunset (Comp) | Petersburg, AK | 04/04/2003 | 03/28/2003
51,425 | Fishing Vessel (F/V Sunset) (Comp) | Cross Sound, AK | 04/04/2003 | 04/01/2003
51,426 | 360 Networkds (Wkrs) | Broomfield, CO | 04/04/2003 | 03/31/2003
51,427 | Rhodia, Inc. (Comp) | Freeport, TX | 04/04/2003 | 03/28/2003
51,428 | Knoll, Inc. (Wkrs) | East Greenville, PA | 04/04/2003 | 04/04/2003
51,429 | Roseburg Forest Products (WCIW) | Dillard, OR | 04/04/2003 | 04/02/2003
51,430 | Triangle Suspension Systems, Inc. (Comp) | DuBois, PA | 04/04/2003 | 04/03/2003
51,431 | Tecumseh Products (IAM) | Grafton, WI | 04/04/2003 | 04/03/2003
51,432 | Marlock, Inc. (Comp) | Maynardville, TN | 04/07/2003 | 04/01/2003
51,433 | Kingston Technology (CA) | Fountain Valley, CA | 04/07/2003 | 03/27/2003
51,434 | Power Quest Corporation (Wkrs) | Orem, UT | 04/07/2003 | 04/03/2003
51,435 | Breg, Inc. (Comp) | Vista, CA | 04/07/2003 | 12/23/2003
51,436 | American Video Glass Co. (Wkrs) | Mt. Pleasant, PA | 04/07/2003 | 03/28/2003
51,437 | NTN-BCA (USWA) | Lititz, PA | 04/07/2003 | 02/26/2003
51,438 | Commonwealth Sprague (MA) | N. Adams, MA | 04/07/2003 | 04/02/2003
51,439 | Royal Hosiery Company, Inc. (Comp) | Granite Falls, NC | 04/07/2003 | 04/02/2003
51,440 | ASML Albuquerque (Wkrs) | Albuquerque, NM | 04/07/2003 | 04/04/2003
51,441 | Rochester Button Company (Wkrs) | Kenbridge, VA | 04/07/2003 | 03/27/2003
51,442 | Stora Enso Duluth Paper Mill (Comp) | Duluth, MN | 04/07/2003 | 03/31/2003
51,443 | Automotive Ignition Co., Inc. (Wkrs) | Pittsburgh, PA | 04/07/2003 | 03/31/2003
51,444 | Lindley Laboratories, Inc. (Wkrs) | Gibsonville, NC | 04/07/2003 | 03/31/2003
51,445 | Fishing Vessel (F/V) Jesse and Merle (Comp) | Dillingham, AK | 04/07/2003 | 04/03/2003
51,446 | Fishing Vessel (F/V) Jesse and Merle (Comp) | Dillingham, AK | 04/07/2003 | 04/03/2003
51,447 | NetManage, Inc. | Bellingham, WA | 04/09/2003 | 04/23/2003
51,448 | Hobart Corporation (Wkrs) | Troy, OH | 04/09/2003 | 04/28/2003
51,449 | IBM Global Services (Wkrs) | New York, NY | 04/09/2003 | 04/01/2003
51,450 | Stratford Die Casting, Inc. (Comp) | Winston-Salem, NC | 04/09/2003 | 04/07/2003
51,451 | Aetna (Wkrs) | Tyler, TX | 04/09/2003 | 03/25/2003
51,452 | Good Companies (CA) | Carson, CA | 04/09/2003 | 04/01/2003
51,453 | Jersey Shore Steel (USWA) | Jersey Shore, PA | 04/09/2003 | 04/03/2003
51,454 | Heiting Tool and Die, Inc. (Comp) | Appleton, WI | 04/09/2003 | 04/07/2003
51,455 | White Rodgers (AR) | Harrison, AR | 04/09/2003 | 04/07/2003
51,456 | Symbol Technologies (Wkrs) | Arlington Hgts., IL | 04/09/2003 | 03/31/2003
51,457 | Crown Manufacturing (Wkrs) | Hornbeak, TN | 04/09/2003 | 03/03/2003
51,458 | SGI (Wkrs) | Chippewa Falls, WI | 04/09/2003 | 02/12/2003
51,459 | Caterpillar Paving Products (Wkrs) | Brooklyn Park, MN | 04/09/2003 | 04/07/2003
51,460 | Mettler Toledo (Comp) | Inman, SC | 04/09/2003 | 04/08/2003
51,461 | Gilliam Candy Brands, Inc. (Comp) | Paducah, KY | 04/09/2003 | 04/03/2003
51,462 | Woodburn Diamond Die (Comp) | Charlevoix, MI | 04/09/2003 | 04/04/2003
51,463 | F/V Kingtail (Comp) | Nikiski, AK | 04/11/2003 | 04/08/2003
51,464 | Fishing Vessel (F/V) Chasina Bay (Comp) | Ketchikan, AK | 04/11/2003 | 04/08/2003
51,465 | Little Narrows, Inc. (Wkrs) | Kodiak, AK | 04/11/2003 | 04/10/2003
51,466 | Wards Cove Packing (Comp) | Seattle, WA | 04/11/2003 | 04/09/2003
51,467 | Sunshine Traders of El Paso (Wkrs) | El Paso, TX | 04/11/2003 | 04/02/2003
51,468 | Aliant Tech Systems (MN) | Edina, MN | 04/11/2003 | 04/09/2003
51,469 | Nortel Networks (Wkrs) | Rsrch Trgle Prk, NC | 04/11/2003 | 04/04/2003
51,470 | Harriet and Henderson Yarns, Inc. (Comp) | Clarkton, NC | 04/11/2003 | 04/09/2003
51,471 | Irvin Automotive Products (Comp) | Greenwood, MS | 04/11/2003 | 01/14/2003
51,472 | PDS Technical Services (Wkrs) | Seattle, WA | 04/11/2003 | 03/21/2003
51,473 | Shepard Clothing Company, Inc. (Comp) | New Bedford, MA | 04/11/2003 | 03/31/2003
51,474 | Seneca Sawmill Company, (Comp) | Eugene, OR | 04/11/2003 | 04/08/2003
51,475 | Guy Bennett Lumber Company (Wkrs) | Clarkston, WA | 04/11/2003 | 04/04/2003
51,476 | Ultra Cutting (Wkrs) | Medley, FL | 04/11/2003 | 04/02/2003
51,477 | Farley's and Sathers Candy Company (Wkrs) | Pittston, PA | 04/11/2003 | 04/09/2003
51,478 | VPI Mirrex LLC (Wkrs) | Delaware City, DE | 04/11/2003 | 03/28/2003
51,479 | Andrews Wire Company (Comp) | Andrews, SC | 04/11/2003 | 04/03/2003
51,480 | Chorum Technologies LP (Comp) | Richardson, TX | 04/11/2003 | 04/09/2003
51,481 | Alexandra Fashions, Inc. (Comp) | North Bergen, NJ | 04/11/2003 | 03/31/2003
51,482 | Tecumseh Products Co. (Comp) | Douglas, GA | 04/11/2003 | 04/10/2003
51,483 | Whiting and Davis (Comp) | Attleboro Falls, MA | 04/11/2003 | 04/10/2003
51,484 | CPI Business Groups, Inc. (Comp) | Rochester, NY | 04/11/2003 | 03/31/2003
51,485 | Bloomsburg Mills, Inc. (Comp) | New York, NY | 04/11/2003 | 03/31/2003
51,486 | Meadwestvaco Envelope Co. (Wkrs) | Springfield, MA | 04/11/2003 | 04/10/2003

[FR Doc. 03-10738 Filed 4-30-03; 8:45 am]

BILLING CODE 4510-30-M